DEPARTMENT OF COMMERCE

National Telecommunications and Information Administration

[Docket No. 240906-0233]

RIN 0660-XC063

Request for Comment on Local Estimates of internet Adoption

AGENCY: National Telecommunications and Information Administration (NTIA), U.S. Department of Commerce.

ACTION: Notice, request for public comments.

SUMMARY: The National Telecommunications and Information Administration (NTIA) is seeking comments and recommendations regarding the project entitled, “Local Estimates of internet Adoption” (Project LEIA). Project LEIA is a new joint project of NTIA and the United States Census Bureau (Census Bureau) to develop model-based estimates of internet adoption for smaller populations than would typically be possible using survey data alone. We request input about potential uses of these estimates. We are also seeking suggestions for potential future improvements to the initial experimental model, as well as what additional sub-state geographies, small populations, indicators, or methods should be considered as future directions for Project LEIA.

DATES: Interested persons are invited to submit comments on or before October 15, 2024.

ADDRESSES: All electronic public comments on this action, identified by Regulations.gov docket number NTIA-2024-0003, may be submitted through the Federal e-Rulemaking Portal at www.regulations.gov. Click the “Comment Now!” icon, complete the required fields, and enter or attach your comments. Please do not include information of a confidential nature, such as sensitive personal information or proprietary information, in your comments. All comments received are a part of the public record and will generally be posted to www.regulations.gov without change. All personal identifying information (e.g., name, address) voluntarily submitted by the commenter may be publicly accessible. Information obtained as a result of this notice may be used by the Federal Government for program planning on a non-attribution basis.

FOR FURTHER INFORMATION CONTACT: Please direct questions regarding this Request for Comment to Rafi Goldberg, Senior Policy Advisor, Digital Equity, NTIA, 1401 Constitution Avenue NW, Suite 4725, Washington, DC 20230, at (202) 482-4375 or rgoldberg@ntia.gov. Please direct media inquiries to NTIA's Office of Public Affairs, at (202) 482-7002 or press@ntia.gov.

SUPPLEMENTARY INFORMATION: For thirty years, NTIA and the Census Bureau have partnered to produce valuable data on computer and internet use in the United States. These data enable policymakers, researchers, and advocates to better understand challenges to achieving digital equity and other internet policy issues. The most enduring example of this is the NTIA internet Use Survey, which is administered as a supplement to the Census Bureau's Current Population Survey. The most recent edition of this survey was fielded in November 2023.¹ Since 1994, the survey has served as the premier Federal data source for in-depth information on who uses the internet, what technologies they use, and what challenges still prevent far too many Americans from fully realizing the benefits of modern information technologies. The relationship between NTIA and the Census Bureau has also expanded over time, facilitating the creation of additional data products that further improve the state of knowledge on internet use. In 2008, the Broadband Data Improvement Act directed the Census Bureau to add questions to the American Community Survey (ACS) about household computer use and internet subscribership.² NTIA and the Federal Communications Commission (FCC) staff worked with our Census Bureau counterparts on implementation of these questions. More recently, NTIA collaborated with Census Bureau teams to create estimates of the Covered Populations, as defined by the Digital Equity Act.³ We also collaborated to launch the ACCESS BROADBAND Dashboard, which visualizes internet adoption across the United States.⁴

¹ See, e.g., NTIA, “New NTIA Data Show 13 Million More internet Users in the U.S. in 2023 than 2021,” June 6, 2024, available at https://www.ntia.gov/blog/2024/new-ntia-data-show-13-million-more-internet-users-us-2023-2021.

² 47 U.S.C. 1303(d).

³ U.S. Census Bureau, Digital Equity Act of 2021, available at https://www.census.gov/programs-surveys/community-resilience-estimates/partnerships/ntia/digital-equity.html.

⁴ U.S. Census Bureau, ACCESS BROADBAND Act of 2021, available at https://www.census.gov/programs-surveys/community-resilience-estimates/partnerships/ntia/broadband-act.html.

While these data products have enabled a great deal of important research and policy analysis, some significant gaps remain in our understanding of internet use. Notably, we have limited ability to reliably estimate variables like internet adoption for individual counties or other smaller geographies and populations. Data from the NTIA internet Use Survey can be used to estimate internet use at the national and state levels and for a range of demographic groups. However, it cannot provide estimates for counties, census tracts, or other small areas. The ACS comes closer to fulfilling this task—at least for the indicators enabled by the three computer and internet use questions it contains—but can only shed light on less populous areas by aggregating five consecutive years' worth of survey responses.⁵ While invaluable for many purposes, a five-year time scale is not ideal for tasks like conducting yearly program evaluation or studying the impacts of relatively sudden changes.

⁵ See ACS “Areas Published,” available at https://www.census.gov/programs-surveys/acs/geography-acs/areas-published.html.

Last year, NTIA and the Census Bureau began an experimental project to study the feasibility of—and ultimately to produce—estimates of internet adoption for small, sub-state areas during a single year to address this knowledge gap and better serve the policymaking process. Using techniques that have been successfully employed in other data products,⁶ Census Bureau experts are combining existing data from key household surveys with auxiliary data that are known to correlate with internet adoption rates. By using a predictive model, the Census Bureau team can produce estimates for less populous geographies or groups that have both smaller margins of error than equivalent estimates based on survey data alone and reduced risk that such estimates can be used to identify individual respondents. Those two features of small area modeling make it possible to publish more granular estimates than would otherwise be permissible or recommended for estimates generated entirely from survey data.

⁶ See, e.g., U.S. Census Bureau, Small Area Income and Poverty Estimates (SAIPE) Program, available at https://www.census.gov/programs-surveys/saipe.html.

For this first phase of Project LEIA, the Census Bureau team produced an experimental model to estimate the proportion of households in each U.S. county that subscribed to wired internet service in 2022.⁷ To accomplish this, Census used the direct survey estimates for wired internet adoption from the 2022 ACS in combination with several variables related to subscribership levels, including each county's median household income, educational attainment level, and availability of fixed broadband services offering at least 100 Mbps download and 20 Mbps upload speeds. A complete feasibility report detailing the methodology used in this model, as well as the experimental estimates themselves and related materials, is available at https://www.census.gov/data/experimental-data-products/local-estimates-of-internet-adoption.html.

⁷ Specifically, the metric being modeled is households reporting a subscription to “broadband (high speed) internet service such as cable, fiber optic, or DSL service installed in this household.” While dial-up internet service—which by definition is also a “wired” internet service—is not included here (and falls under a different answer choice in the relevant ACS question), it was an extremely uncommon type of internet service by 2022. According to the 2022 ACS, approximately 0.1 percent of households used only a dial-up internet service. See 2022 American Community Survey questionnaire at 9, available at https://www2.census.gov/programs-surveys/acs/methodology/questionnaires/2022/quest22.pdf; Census Bureau Table S2801, available at https://data.census.gov/table/ACSST1Y2022.S2801.

As we prepare to continue this important collaboration with the Census Bureau, NTIA invites all suggestions for improvements to the initial experimental model. We also welcome suggestions about how to prioritize future expansion of Project LEIA's scope. The following questions serve as a non-exhaustive guide to some of the issues commenters may wish to address:

1. Should NTIA be aware of any potential applications where Project LEIA could make a particularly substantial contribution to policy research or development? Would any future work on Project LEIA help improve or expand these contributions?

2. In the feasibility report,⁸ the Census Bureau describes the methodology it used in the experimental model and lists a number of potential predictor variables it tested before selecting the ones used in these initial estimates. Are there additional variables or data sources that should be considered to improve the model's predictive power? Should we consider any methodological refinements or modifications to this model to improve its performance?

⁸ U.S. Census Bureau, Local Estimates of internet Adoption: Feasibility Report, available at https://www.census.gov/data/experimental-data-products/local-estimates-of-internet-adoption.html.

3. While the current experimental model only produces estimates at the county level, the same principles can potentially be applied for other small geographies and populations. During the next phase of Project LEIA, NTIA and the Census Bureau intend to experiment with creating census tract-level estimates. Are there other small geographies or populations for which model-based estimates of internet adoption might be beneficial? What relevant data sources at that level could be considered to help generate these estimates?

4. In this first phase, we decided to analyze the percentage of households subscribed to wired internet services. We did this because (a) the variable is useful for policymaking and (b) sufficient data were available to accurately fit a model. However, this is not the only metric that possibly could be modeled through future work. In addition to considering other variables from the ACS questions on computer and internet use, we are also interested in applying small area modeling to more detailed questions from the NTIA internet Use Survey. What metrics from either survey could we prioritize for future work under Project LEIA?

5. Is there anything else NTIA should take into consideration when contemplating the further development of Project LEIA?

Stephanie Weiner,
Chief Counsel, National Telecommunications and Information Administration.

[FR Doc. 2024-20645 Filed 9-11-24; 8:45 am]

BILLING CODE 3510-60-P